DEPARTMENT OF EDUCATION

Direct Grant Programs

AGENCY: Department of Education.

ACTION: Notice reopening application deadline dates for certain direct grants.

SUMMARY: The Secretary reopens the deadline dates for the submission of applications from applicants in certain nationally declared disaster areas for two competitions. Both of the affected competitions are among those under which the Secretary is making new awards for fiscal year (FY) 2003. The Secretary takes this action to allow more time for the preparation and submission of applications by potential applicants who have been affected by severe weather conditions in certain States. The reopening of these deadline dates is intended to help the potential applicants compete fairly with other applicants under these competitions.

Note: The affected competitions are under the following principal offices of the Department: Office of Elementary and Secondary Education and Office of Safe and Drug-Free Schools. You can find specific information related to the affected competitions in the chart published as an Appendix to this notice.

Eligibility: The reopening of deadline dates in this notice applies to you if you are a potential applicant from an area on the following chart. The President has declared each of these locations a disaster area as a result of recent severe weather conditions. These areas are as follows:

State | County
Alabama | Bibb, Blount, Calhoun, Cullman, DeKalb, Etowah, Jackson, Jefferson, Madison, Marshall, Morgan, Shelby, St. Clair, Talladega, Tuscaloosa, Walker.
Illinois | Adams, Alexander, Brown, Fulton, Hancock, Mason, Massac, Pope, Pulaski, Schuyler, Tazewell, Woodford.
Kansas | Anderson, Cherokee, Crawford, Douglas, Labette, Leavenworth, Miami, Neosho, Osage, Woodson, Wyandette.
Missouri | Barry, Barton, Bates, Benton, Buchanan, Camden, Cass, Cedar, Christian, Clay, Clinton, Cooper, Dade, Dallas, Douglas, Greene, Henry, Hickory, Jackson, Jasper, Johnson, Laclede, Lafayette, Lawrence, McDonald, Miller, Morgan, Newton, Pettis, Platte, Polk, Pulaski, Ray, Saline, St. Clair, Stone, Taney, Vernon, Webster.
Oklahoma | Canadian, Cleveland, Grady, Kingfisher, Lincoln, Logan, McClain, Oklahoma, Pottawatomie.
Tennessee | Carroll, Cheatham, Chester, Crockett, Dickson, Dyer, Gibson, Hardeman, Haywood, Henderson, Henry, Houston, Lake, Lauderdale, Madison, Montgomery, Obion, Robertson, Stewart, Weakley.

DATES: The new deadline date for transmitting applications under each competition is listed with that competition in the chart published as an Appendix to this notice.

If the program in which you are interested is subject to Executive Order 12372, the deadline date for the transmittal of State process recommendations by State Single Points of Contact (SPOCs) and comments by other interested parties remains as originally published.

ADDRESSES: The address and telephone number for obtaining applications for, or information about, an individual program are in the application notice for that program. We have listed the date and Federal Register citation of the application notice for each program.

If you use a telecommunications device for the deaf (TDD), you may call the TDD number, if any, listed in the individual application notice. If we have not listed a TDD number, you may call the Federal Information Relay Service (FIRS) at 1-800-877-8339.

If you want to transmit a recommendation or comment under Executive Order 12372, you can find the latest list and addresses of individual SPOCs on the Web site of the Office of Management and Budget at the following address: http://www.whitehouse.gov/omb/grants.

If you are an individual with a disability, you may obtain a copy of this notice in an alternative format (e.g., Braille, large print, audiotape, or computer diskette) on request to the contact person listed in the individual application notices.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: May 22, 2003.
Jack Martin,
Chief Financial Officer.

Appendix.—List of Competitions Covered by This Notice
CFDA No. and Name | Publication date and Federal Register cite | Original deadline date for applications | Revised deadline date for applications
Office of Elementary and Secondary Education: 84.349A Early Childhood Educator Professional Development Program | 3/31/03 (68 FR 15644) | 5/16/03 | 5/30/03
Office of Safe and Drug-Free Schools: 84.215F Carol M. White Physical Education Program | 4/1/03 (68 FR 15911) | 5/12/03 | 6/6/03

[FR Doc. 03-13462 Filed 5-28-03; 8:45 am]

BILLING CODE 4000-01-P